DEPARTMENT OF HOMELAND SECURITY

Coast Guard

33 CFR Part 165

[Docket No. USCG-2013-1033]

Safety Zones; Annual Events Requiring Safety Zones In the Captain of the Port Lake Michigan Zone

AGENCY: Coast Guard, DHS.

ACTION: Notice of enforcement of regulation.

SUMMARY: The Coast Guard will enforce the safety zone on the Grand River in Spring Lake, MI. for the Spring Lake Heritage Festival fireworks. This zone will be enforced from 9:30 p.m. until 11 p.m. on June 14, 2014. This action is necessary and intended to ensure the safety of life on navigable waters during a fireworks display. During the aforementioned period, the Coast Guard will enforce restrictions upon, and control movement of, vessels in the safety zone. No person or vessel may enter the safety zone while it is being enforced without permission of the Captain of the Port, Lake Michigan.

DATES: The regulations in 33 CFR 165.929 will be enforced for safety zone (d)(3) in § 165.929, Table 165.929, from 9:30 p.m. until 11 p.m. on June 14, 2014.

FOR FURTHER INFORMATION CONTACT: If you have questions on this document, call or email MST1 Joseph McCollum, Prevention Department, Coast Guard Sector Lake Michigan, Milwaukee, WI at (414) 747-7148, email joseph.p.mccollum@uscg.mil.

SUPPLEMENTARY INFORMATION: The Coast Guard will enforce the Spring Lake Heritage Festival Fireworks safety zone listed as item (d)(3) in Table 165.929 of 33 CFR 165.929. Section 165.929 lists many annual events requiring safety zones in the Captain of the Port Lake Michigan zone. This Spring Lake safety zone encompasses all waters of the Grand River within the arc of a circle with a 700-foot radius from a barge in position 43°04′22.5″ N, 086°12′24.07″ W, (NAD 83). This zone will be enforced from 9:30 p.m. until 11 p.m. on June 14, 2014.

All vessels must obtain permission from the Captain of the Port, Lake Michigan, or the on-scene representative to enter, move within, or exit the safety zone. Vessels and persons granted permission to enter the safety zone must obey all lawful orders or directions of the Captain of the Port, Lake Michigan, or a designated representative. Vessels that wish to transit through the safety zone may request permission from the Captain of the Port Lake Michigan. Requests must be made in advance and approved by the Captain of the Port before transits will be authorized. Approvals will be granted on a case by case basis.

This document is issued under authority of 33 CFR 165.929, Safety Zones; Annual events requiring safety zones in the Captain of the Port Lake Michigan zone and 5 U.S.C. 552(a). In addition to this publication in the Federal Register, the Coast Guard will provide the maritime community with advance notification of this event via Broadcast Notice to Mariners or Local Notice to Mariners that the regulation is in effect. The Captain of the Port, Lake Michigan, or his or her on-scene representative may be contacted via Channel 16, VHF-FM.

Dated: May 27, 2014.
M.W. Sibley,
Captain, U.S. Coast Guard, Captain of the Port, Lake Michigan.

[FR Doc. 2014-13305 Filed 6-6-14; 8:45 am]

BILLING CODE 9110-04-P